NATIONAL AERONAUTICS AND SPACE ADMINISTRATION

[Notice: 23-037]

NASA Advisory Council; Human Exploration and Operations Committee

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Monday, May 15, 2023, 9:30 a.m. to 12:35 p.m.; and Tuesday, May 16, 2023, 9:00 a.m. to 4:00 p.m., Eastern Time.

ADDRESSES: Public attendance will be virtual. Webex and dial-in information is below under SUPPLEMENTARY INFORMATION.

FOR FURTHER INFORMATION CONTACT: Dr. Bette Siegel, Designated Federal Officer, Human Exploration and Operations Committee, NASA Headquarters, Washington, DC 20546, via email at bette.siegel@nasa.gov or (202) 358-2245.

SUPPLEMENTARY INFORMATION: As noted above, this meeting will be open to the public via Webex and telephonically. Webex connectivity information is provided below. For audio, when joining the Webex event, you may use your computer or provide your phone number to receive a call back, otherwise, call the U.S. toll conference number listed.

On Monday, May 15, and Tuesday, May 16, the event address for attendees is: https://nasaenterprise.webex.com/nasaenterprise/j.php?MTID=m993f1ef3f411afec52f184f041a63f63.

The event number is 2764 745 8303 and the event password is pMeATbJ@282. If needed, the U.S. toll conference number is 1-415-527-5035 or 1-929-251-9612 and access code is 2764 745 8303.

The agenda for the meeting includes the following topics:

—Status of the Exploration Systems Development Mission Directorate

—Moon to Mars

—Strategy and Architecture

—Budget

—International Space Station Update

—Commercial Space

—Human Research Program Status

—Office of Chief Health and Medical Officer

It is imperative that this meeting be held on this day to accommodate the scheduling priorities of the key participants.

Patricia Rausch,
Advisory Committee Management Officer, National Aeronautics and Space Administration.

[FR Doc. 2023-09514 Filed 5-3-23; 8:45 am]

BILLING CODE 7510-13-P